SUSQUEHANNA RIVER BASIN COMMISSION

Public Hearing

AGENCY: Susquehanna River Basin Commission.

ACTION: Notice.

SUMMARY: The Susquehanna River Basin Commission will hold a public hearing on May 8, 2014, in Harrisburg, Pennsylvania. At this public hearing, the Commission will hear testimony on the projects listed in the Supplementary Information section of this notice. Such projects are intended to be scheduled for Commission action at its next business meeting, tentatively scheduled for June 5, 2014, which will be noticed separately. The Commission will also hear testimony on: (1) Amending its Regulatory Program Fee Schedule; (2) amending its Records Processing Fee Schedule; and (3) amending the Comprehensive Plan for the Water Resources of the Susquehanna River Basin. The public should take note that this public hearing will be the only opportunity to offer oral comment to the Commission for the listed projects and other items. The deadline for the submission of written comments is May 19, 2014.

DATES: The public hearing will convene on May 8, 2014, at 2:30 p.m. The public hearing will end at 5:00 p.m. or at the conclusion of public testimony, whichever is sooner. The deadline for the submission of written comments is May 19, 2014.

ADDRESSES: The public hearing will be conducted at the Pennsylvania State Capitol, Room 8E-B, East Wing, Commonwealth Avenue, Harrisburg, Pa.

FOR FURTHER INFORMATION CONTACT: Richard A. Cairo, General Counsel, telephone: (717) 238-0423, ext. 1306; fax: (717) 238-2436.

Information concerning the applications for these projects is available at the SRBC Water Resource Portal at www.srbc.net/wrp. Materials and supporting documents are available to inspect and copy in accordance with the Commission's Access to Records Policy at www.srbc.net/pubinfo/docs/2009-02%20Access%20to%20Records%20Policy%209-10-09.PDF.

SUPPLEMENTARY INFORMATION: The public hearing will cover: (1) Amendment to its Regulatory Program Fee Schedule; (2) amendment to its Records Processing Fee Schedule; and (3) amendment to the Comprehensive Plan for the Water Resources of the Susquehanna River Basin. The public hearing will also cover the following projects:

Public Hearing—Projects Scheduled for Action

1. Project Sponsor and Facility: DS Waters of America, Inc., Clay Township, Lancaster County, Pa. Application for groundwater withdrawal of up to 0.115 mgd (30-day average) from Well 6.

2. Project Sponsor and Facility: Healthy Properties, Inc. (Sugar Creek), North Towanda Township, Bradford County, Pa. Application for renewal and modification to increase surface water withdrawal by an additional 0.549 mgd (peak day), for a total of up to 0.999 mgd (peak day) (Docket No. 20100308).

3. Project Sponsor and Facility: IBM Corporation, Village of Owego, Tioga County, N.Y. Application for groundwater withdrawal of up to 0.002 mgd (30-day average) from Well 415.

4. Project Sponsor and Facility: Jay Township Water Authority, Jay Township, Elk County, Pa. Application for groundwater withdrawal of up to 0.265 mgd (30-day average) from Byrnedale Well #1.

5. Project Sponsor and Facility: LDG Innovation, LLC (Tioga River), Lawrenceville Borough, Tioga County, Pa. Application for renewal of surface water withdrawal of up to 0.750 mgd (peak day) (Docket No. 20100311).

6. Project Sponsor: Leola Sewer Authority. Project Facility: Upper Leacock Township, Lancaster County, Pa. Application for groundwater withdrawal of up to 0.075 mgd (30-day average) from Well 13 (Docket No. 19820601).

7. Project Sponsor and Facility: Mountain Energy Services, Inc. (Tunkhannock Creek), Tunkhannock Township, Wyoming County, Pa. Application for renewal of surface water withdrawal of up to 1.498 mgd (peak day) (Docket No. 20100309).

8. Project Sponsor and Facility: Newport Borough Water Authority, Oliver Township, Perry County, Pa. Application for groundwater withdrawal of up to 0.162 mgd (30-day average) from Well 1.

9. Project Sponsor: Pennsylvania Department of Environmental Protection—South-central Regional Office, City of Harrisburg, Dauphin County, Pa. Facility Location: Leacock Township, Lancaster County, Pa. Application for groundwater withdrawal of up to 0.576 mgd (30-day average) from Stoltzfus Well.

10. Project Sponsor: Pennsylvania Department of Environmental Protection—South-central Regional Office, City of Harrisburg, Dauphin County, Pa. Facility Location: Leacock Township, Lancaster County, Pa. Application for groundwater withdrawal of up to 0.432 mgd (30-day average) from Township Well.

11. Project Sponsor and Facility: Pennsylvania General Energy Company, L.L.C. (Pine Creek), Watson Township, Lycoming County, Pa. Application for renewal of surface water withdrawal of up to 0.918 mgd (peak day) (Docket No. 20100610).

12. Project Sponsor and Facility: Pro-Environmental, LLC (Martins Creek), Lathrop Township, Susquehanna County, Pa. Application for surface water withdrawal of up to 0.999 mgd (peak day).

13. Project Sponsor and Facility: Southwestern Energy Production Company (Martins Creek), Brooklyn and Harford Townships, Susquehanna County, Pa. Modification to low flow protection requirements of the surface water withdrawal approval (Docket No. 20110312).

14. Project Sponsor and Facility: Southwestern Energy Production Company (Susquehanna River), Great Bend Township, Susquehanna County, Pa. Application for surface water withdrawal of up to 3.000 mgd (peak day).

15. Project Sponsor and Facility: Sugar Hollow Water Services, LLC (Bowman Creek), Eaton Township, Wyoming County, Pa. Application for renewal of surface water withdrawal of up to 0.249 mgd (peak day) (Docket No. 20100310).

16. Project Sponsor and Facility: Susquehanna Gas Field Services LLC, Meshoppen Borough, Wyoming County, Pa. Application for renewal of groundwater withdrawal of up to 0.216 mgd (30-day average) from Meshoppen Pizza Well (Docket No. 20100612).

17. Project Sponsor and Facility: Susquehanna Gas Field Services LLC (Susquehanna River), Meshoppen Township, Wyoming County, Pa. Application for surface water withdrawal of up to 2.000 mgd (peak day).

18. Project Sponsor and Facility: Talisman Energy USA Inc. (Fall Brook), Troy Township, Bradford County, Pa. Application for renewal and modification of surface water withdrawal of up to 0.999 mgd (peak day) (Docket No. 20100304).

19. Project Sponsor and Facility: Talisman Energy USA Inc. (Unnamed Tributary to the North Branch Sugar Creek), Columbia Township, Bradford County, Pa. Application for renewal of surface water withdrawal of up to 2.000 mgd (peak day) (Docket No. 20100305).

Public Hearing—Project Scheduled for Action Involving a Diversion

1. Project Sponsor: EOG Resources, Inc. Project Facility: Blue Valley Abandoned Mine Drainage Treatment Plant, Horton Township, Elk County, Pa. Application for renewal of into-basin diversion from the Ohio River Basin of up to 0.322 mgd (peak day) (Docket No. 20100616).

Opportunity To Appear and Comment

Interested parties may appear at the hearing to offer comments to the Commission on any project listed or other items listed above. The presiding officer reserves the right to limit oral statements in the interest of time and to otherwise control the course of the hearing. Ground rules will be posted on the Commission's Web site, www.srbc.net, prior to the hearing for review. The presiding officer reserves the right to modify or supplement such rules at the hearing. Written comments on any project or other items listed above may also be mailed to Mr. Richard Cairo, General Counsel, Susquehanna River Basin Commission, 4423 North Front Street, Harrisburg, Pa. 17110-1788, or submitted electronically through http://www.srbc.net/pubinfo/publicparticipation.htm. Comments mailed or electronically submitted must be received by the Commission on or before May 19, 2014, to be considered.

Authority: Pub. L. 91-575, 84 Stat. 1509 et seq., 18 CFR Parts 806, 807, and 808.

Dated: April 4, 2014.
Stephanie L. Richardson,
Secretary to the Commission.

[FR Doc. 2014-08315 Filed 4-11-14; 8:45 am]

BILLING CODE 7040-01-P